DEPARTMENT OF AGRICULTURE

Foreign Agricultural Service

Trade Adjustment Assistance for Farmers

AGENCY: Foreign Agricultural Service, USDA.

ACTION: Notice.

The Administrator, Foreign Agricultural Service (FAS), approved a petition for trade adjustment assistance (TAA) that was filed on February 21, 2006, by the National Grape Cooperative Association representing Washington Concord juice grape producers. The certification date is March 15, 2006. Beginning on March 27, 2006, Washington Concord juice grape producers will be eligible to apply for fiscal year 2006 benefits during an application period ending June 26, 2006.

SUPPLEMENTARY INFORMATION: Upon investigation, the Administrator determined that increased imports of grape juice, non-concentrated and concentrated (frozen and not frozen) contributed importantly to a decline in producer prices of Concord juice grapes in Washington by 36 percent during August 2004 through July 2005, when compared with the previous 5-year average.

Eligible producers must apply to the Farm Service Agency for benefits. After submitting completed applications, producers shall receive technical assistance provided by the Extension Service at no cost and may receive an adjustment assistance payment, if certain program criteria are satisfied. Applicants must obtain the technical assistance from the Extension Service by September 29, 2006, in order to be eligible for financial payments.

Producers of raw agricultural commodities wishing to learn more about TAA and how they may apply should contact the Department of Agriculture at the addresses provided below for General Information.

Producers Certified as Eligible for TAA, Contact: Farm Service Agency service centers in Washington.

For General Information About TAA, Contact: Jean-Louis Pajot, Coordinator, Trade Adjustment Assistance for Farmers, FAS, USDA, (202) 720-2916, e-mail: trade.adjustment@fas.usda.gov.

Dated: March 17, 2006.
Michael W. Yost,
Administrator, Foreign Agricultural Service.

[FR Doc. E6-4622 Filed 3-28-06; 8:45 am]

BILLING CODE 3410-10-P